DEPARTMENT OF LABOR

Office of the Secretary

Submission for OMB Emergency Review; Comment Request

August 29, 2007.

The Department of Labor hereby announces the submission of the following information collection request (ICR), utilizing emergency review procedures specified in 5 CFR 1320.13, for the Office of Management and Budget (OMB) review and clearance in accordance with the Paperwork Reduction Act of 1995 (Pub. L. 104-13, 44 U.S.C. Chapter 35). OMB approval has been requested by September 17, 2007. A copy of this ICR, with applicable supporting documentation; including among other things a description of the likely respondents, proposed frequency of response, and estimated total burden may be obtained from the RegInfo.gov Web site at http://www.reginfo.gov/public/do/PRAMain or by contacting Darrin King on 202-693-4129 (this is not toll-free number) / e-mail: king.darrin@dol.gov.

Interested parties are encouraged to send comments within 5 days from the date of this publication in the Federal Register. Comments should be sent to the Office of Information and Regulatory Affairs, Attn: Katherine Astrich, OMB Desk Officer for the Employment and Training Administration, Room 10235, Washington, DC 20503 (Telephone: 202-395-7316 / Fax: 202-395-6974, these are not toll-free numbers). Comments may be submitted by E-mail to OIRA_submission@omb.eop.gov. In order to ensure the appropriate consideration, comments should reference the OMB Control Number (see below).

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration.

Title: Work Opportunity Tax Credit (WOTC) and Welfare-to-Work (WtW) Tax Credit.

OMB Control Number: 1205-0371.

Form Numbers: ETA-9062; ETA-9058; ETA-9057; ETA-9059; ETA-9063; ETA-9061; and ETA-9065.

Affected Public: State Workforce Agencies; participating agencies; business sector; and disadvantaged jobseekers.

Estimated Number of Annual Respondents: 990,000.

Estimated Total Annual Burden Hours: 848,325.

Total Estimated Annual Cost Burden: $0.

Description: On May 25, 2007 the President signed into law the Small Business and Work Opportunity Tax Act of 2007 (Pub. L. 110-28). Section 8211 of this Act extended and modified the WOTC Program for a continuing 44-month period through August 31, 2011. The new provisions and amendments to certain target groups apply to new hires that begin to work for an employer after May 25. Another recent legislation, the Tax Relief and Health Care Act of 2006 (Pub. L. 109-432) signed into law on December 20, 2006 extended the WOTC for two additional years through December 31, 2007 and consolidated the program by merging the Welfare-to-Work Tax Credit into the WOTC. This Act also made various amendments and introduced new provisions that streamline the program and make it easier for the business sector to participate. The statutory changes and new provisions required that the following program report, processing and administrative forms, and materials be revised and updated to reflect the new changes and provisions:

To request a certification from a state workforce agency (SWA), employers or their representatives must submit not only IRS Form 8850 but also either ETA Form 9061 or 9062. SWAs cannot process timely filed but incomplete requests. Through a special arrangement with OMB, IRS Form 8850 was cleared by OMB May 26, 2007. Therefore, ETA is requesting this emergency ICR approval of the listed forms and program materials so that the SWAs can start processing all the new certification requests with the changes that became effective May 26, 2007. This emergency approval will help prevent the accumulation of unprocessed timely filed certification requests, which will result in significant backlogs for the states and the timely issuance to employers of certifications for all the new eligible hires in accordance with Congressional intent.

Darrin King,
Acting Departmental Clearance Officer.

[FR Doc. E7-17483 Filed 9-4-07; 8:45 am]

BILLING CODE 4510-FN-P